DEPARTMENT OF ENERGY

10 CFR Part 430

[EERE-2012-BT-TP-0013; EERE-2014-BT-TP-0014]

RIN 1904-AC71; 1904-AD22

Energy Conservation Program: Test Procedures for Cooking Products and Test Procedures for Portable Air Conditioners; Corrections

AGENCY: Office of Energy Efficiency and Renewable Energy, Department of Energy.

ACTION: Correcting amendments.

SUMMARY: The U.S. Department of Energy (DOE) published two final rules on June 1, 2016 and December 16, 2016 amending the test procedures for portable air conditioners and cooking products, respectfully. This correction republishes amendments from both rulemakings that could not be incorporated into the Code of Federal Regulations (CFR) due to inaccurate amendatory instructions. Neither the errors nor the corrections in this document affect the substance of these rulemakings or any of the conclusions reached in support of those rules.

DATES: This correction is effective February 21, 2019. The incorporation by reference of certain publications listed in this rule was approved by the Director of the Federal Register as of February 7, 2011 and July 1, 2016.

FOR FURTHER INFORMATION CONTACT: Appliance Standards Questions, U.S. Department of Energy, Office of Energy Efficiency and Renewable Energy, Building Technologies Office, EE-2J, 1000 Independence Avenue SW, Washington, DC 20585-0121. Telephone: (202) 287-1943. Email: ApplianceStandardsQuestions@ee.doe.gov.

Ms. Celia Sher, U.S. Department of Energy, Office of the General Counsel, GC-33, 1000 Independence Avenue SW, Washington, DC 20585-0121. Telephone: (202) 287-6122. Email: Celia.Sher@hq.doe.gov.

SUPPLEMENTARY INFORMATION: DOE published a final rule in the Federal Register on June 1, 2016, amending the test procedures for portable air conditioners. 81 FR 35242 DOE also published a final rule on December 16, 2016, amending the test procedures for cooking products. 81 FR 91418. This correction republishes amendments from both rulemakings that were not incorporated into the Code of Federal Regulations (CFR) due to inaccurate amendatory instructions. In the June 1, 2016 rule, which became effective on July 1, 2016, DOE amended 10 CFR 430.3, by adding paragraph (i)(8), addressing portable air conditioners. This amendment was inadvertently omitted from the CFR due to an inaccurate amendatory instruction. In the December 16, 2016 final rule, which became effective January 17, 2017, DOE also amended 10 CFR 430.3(i). The amendatory instruction for this amendment referred to paragraph renumbering in 10 CFR 430.3 that affected amendments previously established by another final rule which published on December 13, 2016, addressing residential dishwasher energy conservation standards. 81 FR 90072. This final rule correction specifies the amendments to 10 CFR 430.3(i) that were established in the June 1, 2016 portable air conditioners and December 16, 2016 cooking products test procedure final rules, referencing the revised paragraph numbering in the CFR. Additionally, in the December 16, 2016 rule, DOE redesignated paragraphs (l) through (u) as (m) through (v) incorrectly in the amendatory instruction. Specifically, this document corrects 10 CFR 430.3(i) and 10 CFR 430.3(q) and (p).

Procedural Issues and Regulatory Review

The regulatory reviews conducted for this rulemaking are those set forth in the June 1, 2016 and December 16, 2016 final rules that originally codified the amendments to DOE's test procedures for portable air conditioners and cooking products. The amendments in the June 1, 2016 rulemaking became effective July 1, 2016 and the December 16, 2016 final rule amendments became effective January 17, 2017.

Pursuant to the Administrative Procedure Act, 5 U.S.C. 553(b), DOE has determined that notice and prior opportunity for comment on this rule are unnecessary and contrary to the public interest. Neither the errors nor the corrections in this document affect the substance of the rulemakings or any of the conclusions reached in support of the final rule. For these reasons, DOE has also determined that there is good cause to waive the 30-day delay in effective date.

List of Subjects in 10 CFR Part 430

Administrative practice and procedure, Confidential business information, Energy conservation, Household appliances, Imports, Incorporation by reference, Intergovernmental relations, Small businesses.

Signed in Washington, DC, on February 11, 2019.
Steven Chalk,
Acting Deputy Assistant Secretary for Energy Efficiency and Renewable Energy.

For the reasons set forth in the preamble, DOE amends part 430 of title 10 of the Code of Federal Regulations by making the following correcting amendments:

PART 430—ENERGY CONSERVATION PROGRAM FOR CONSUMER PRODUCTS

1. The authority citation for part 430 continues to read as follows:

Authority: 42 U.S.C. 6291-6309; 28 U.S.C. 2461 note.

2. Section 430.3 amended by:

a. Revising paragraph (i); and

b. Redesignating paragraphs (q) and (p) as paragraphs (p) and (q), respectively.

The revision reads as follows:

§ 430.3 Materials incorporated by reference.

* * * * *

(i) AHAM. Association of Home Appliance Manufacturers, 1111 19th Street NW, Suite 402, Washington, DC 20036, 202-872-5955, or go to http://www.aham.org.

(1) ANSI/AHAM DH-1-2008 (“ANSI/AHAM DH-1”), Dehumidifiers, ANSI approved May 9, 2008, IBR approved for appendices X and X1 to subpart B of this part.

(2) ANSI/AHAM DW-1-2010, Household Electric Dishwashers, (ANSI approved September 18, 2010), IBR approved for appendix C1 to subpart B of this part.

(3) AHAM HLD-1-2009 (“AHAM HLD-1”), Household Tumble Type Clothes Dryers, (2009), IBR approved for appendices D1 and D2 to subpart B of this part.

(4) AHAM HRF-1-2008, (“HRF-1-2008”), Association of Home Appliance Manufacturers, Energy and Internal Volume of Refrigerating Appliances (2008), including Errata to Energy and Internal Volume of Refrigerating Appliances, Correction Sheet issued November 17, 2009, IBR approved for appendices A and B to subpart B of this part.

(5) ANSI/AHAM PAC-1-2015, (“ANSI/AHAM PAC-1-2015”), Portable Air Conditioners, June 19, 2015, IBR approved for appendix CC to subpart B of this part.

(6) ANSI/AHAM RAC-1-2008 (“ANSI/AHAM RAC-1”), Room Air Conditioners, (2008; ANSI approved July 7, 2008), IBR approved for appendix F to subpart B of this part.

* * * * *

[FR Doc. 2019-02973 Filed 2-20-19; 8:45 am]

BILLING CODE 6450-01-P